DEPARTMENT OF TRANSPORTATION

Federal Aviation Administration

Advisory Circular: Advisory Circular (AC) 23.1419-2B, Certification of Part 23 Airplanes for Flight in Icing Conditions

AGENCY: Federal Aviation Administration (FAA), DOT.

ACTION: Notice of availability of proposed revised advisory circular (AC); Request for comments.

SUMMARY: This notice announces the availability of and request for comments on a proposed revised AC, which provides information and guidance concerning demonstrating compliance with the ice protection requirements in Title 14 of the Code of Federal Regulations (14 CFR) part 23.

DATES: Comments must be received on or before June 10, 2002.

ADDRESSES: Send all comments on the proposed revised AC to the individual identified under FOR FURTHER INFORMATION CONTACT.

FOR FURTHER INFORMATION CONTACT: Paul Pellicano, Aerospace Engineer, FAA; Atlanta Aircraft Certification Office, 1895 Phoenix Blvd, Suite 450, Atlanta, GA 30349; telephone: (770) 703-6064; facsimile: (770) 703-6097; e-mail: paul.pellicano@faa.gov.

SUPPLEMENTARY INFORMATION:

Comments Invited

You may obtain a copy of this proposed revised AC by contacting the person named above under FOR FURTHER INFORMATION CONTACT.

We invite you to send comments on the proposed revised AC. You must identify AC 23.1419-2B in the subject and send comments to the (e-mail preferred) address specified above. The FAA will consider all comments received by the closing date for comments before issuing the final AC. We may change the proposed revised AC because of the comments received.

Background: This proposed revised AC sets forth an acceptable means, but not the only means, of demonstrating compliance with the ice protection requirements in Title 14 of the Code of Federal Regulations (14 CFR) part 23. The FAA will consider other methods of demonstrating compliance that an applicant may elect to present. This material is neither mandatory nor regulatory in nature and does not constitute a regulation. Accordingly, the FAA is proposing and requesting comments on proposed revised AC 23.1419-2B, which will provide more detailed and uniform guidance in showing compliance with the existing regulation.

Issued in Kansas City, Missouri, on March 29, 2002.
Michael K. Dahl,
Acting Manager, Small Airplane Directorate, Aircraft Certification Service.

[FR Doc. 02-8780 Filed 4-10-02; 8:45 am]

BILLING CODE 4910-13-P